FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Michelle Shore—Division of Research and Statistics, Board of Governors of the Federal Reserve System, Washington, DC 20551 (202-452-3829).

OMB Desk Officer—Alexander T. Hunt—Office of Information and Regulatory Affairs, Office of Management and Budget, New Executive Office Building, Room 10235, Washington, DC 20503.

Final approval under OMB delegated authority of the extension for three years, with revision, of the following report:

Report title: Application for Employment with the Board of Governors of the Federal Reserve System.

Agency form number: FR 28, FR 28s, FR 28i.

OMB Control number: 7100-0181.

Frequency: On occasion.

Reporters: Employment applicants.

Annual reporting hours: 3,558 hours.

Estimated average hours per response: FR 28: 1 hour; FR 28s: 1 minute; FR 28i: 5 minutes.

Number of respondents: FR 28: 3,500; FR 28s: 2,000; FR 28i: 300.

General description of report: This information collection is required to obtain a benefit (sections 10(4) and 11(1) of the Federal Reserve Act (12 U.S.C. 244 and 248(1)). Information provided will be kept confidential under exemption (b)(6) of the Freedom of Information Act (FOIA) to the extent that the disclosure of information “would constitute a clearly unwarranted invasion of personal privacy.” 5 U.S.C. 552(b)(6).

Abstract: The Application collects information to determine the qualifications and availability of applicants for employment with the Board. The Application collections information on education and training, employment record, military service record, and other information since the time the applicant left high school.

Current Actions: On December 10, 2007, the Federal Reserve published a notice in the Federal Register (72 FR 69688) requesting public comment for 60 days on the extension, with revision, of the FR 28, FR 28s, and FR 28i. The comment period for this notice expired on February 8, 2008. The Federal Reserve did not receive any comments.

Final approval under OMB delegated authority of the extension for three years, without revision, of the following report:

Report title: Recordkeeping Requirements Associated with the Real Estate Lending Standards Regulation for State Member Banks.

Agency form number: Reg H-5.

OMB control number: 7100-0261.

Frequency: Aggregate report, quarterly; policy statement, annually.

Reporters: State member banks.

Annual reporting hours: 17,960 hours.

Estimated average hours per response: Aggregate report: 5 hours; Policy statement: 20 hours.

Number of respondents: Aggregate report: 888; Policy statement: 10.

General description of report: This information collection is mandatory (12 U.S.C. 1828(o)) and is not given confidential treatment. However, information gathered by the Federal Reserve during examinations of state member banks would be deemed exempt from Freedom of Information Act (FOIA) disclosure by exemption 8 of FOIA. 5 U.S.C. 552(b)(8).

Abstract: State member banks must adopt and maintain a written real estate lending policy. Also, banks must identify their loans in excess of the supervisory loan-to-value limits and report (at least quarterly) the aggregate amount of the loans to the bank's board of directors.

Current Actions: On December 10, 2007, the Federal Reserve published a notice in the Federal Register (72 FR 69688) requesting public comment for 60 days on the extension, without revision, of the recordkeeping requirements associated with the real estate lending standards regulation for state member banks. The comment period for this notice expired on February 8, 2008. The Federal Reserve did not receive any comments.

Board of Governors of the Federal Reserve System, February 14, 2008.
Jennifer J. Johnson,
Secretary of the Board.

[FR Doc. E8-3293 Filed 2-21-08; 8:45 am]

BILLING CODE 6210-01-P